COMMITTEE FOR THE IMPLEMENTATION OF TEXTILE AGREEMENTS

Cancellation of Request for Public Comments Due to the Withdrawal of Commercial Availability Petition under the African Growth and Opportunity Act (AGOA)

March 28, 2003.

AGENCY: The Committee for the Implementation of Textile Agreements (CITA).

ACTION: Cancellation of the request for public comments on the commercial availability petition from Crystal Apparel Limited of Hong Kong and Sinotex Mauritius Limited in Mauritius regarding certain light-and medium-weight dyed warp pile cotton velvet, for use in apparel articles.

SUMMARY: On March 28, 2003, the Chairman of CITA was notified by Sandler, Travis and Rosenberg, counsel for Crystal Apparel Limited of Hong Kong and Sinotex Mauritius Limited in Mauritius, of the withdrawal of the commercial availability request concerning certain light-and medium-weight dyed warp pile cotton velvet, for use in apparel articles, due to technical errors in the request. Consequently, the notice published in the Federal Register on March 28, 2003 (68 FR 15154) is cancelled.

James C. Leonard III,
Chairman, Committee for the Implementation of Textile Agreements.

[FR Doc.03-8146 Filed 3-31-03; 2:06 pm]

BILLING CODE 3510-DR-S